DEPARTMENT OF COMMERCE

International Trade Administration

[A-570-939]

Tow-Behind Lawn Groomers and Certain Parts Thereof From the People's Republic of China: Continuation of Antidumping Duty Order

AGENCY: Enforcement and Compliance, International Trade Administration, Department of Commerce.

SUMMARY: As a result of the determinations by the Department of Commerce (Commerce) and the International Trade Commission (ITC) that revocation of the antidumping duty (AD) order on tow-behind lawn groomers and certain parts thereof (TBLGs) from the People's Republic of China (China) would likely lead to a continuation or recurrence of dumping and material injury to an industry in the United States, Commerce is publishing a notice of continuation of the AD order.

DATES: Applicable August 3, 2020.

FOR FURTHER INFORMATION CONTACT: Dakota Potts, AD/CVD Operations, Office IV, Enforcement and Compliance, International Trade Administration, U.S. Department of Commerce, 1401 Constitution Avenue NW, Washington, DC 20230; telephone: (202) 482-0223.

SUPPLEMENTARY INFORMATION:

Background

On August 3, 2009, Commerce published the AD Order on TBLGs from China.¹ On January 2, 2020, the ITC instituted its review of the Order.² Also on January 2, 2020, Commerce published the initiation of the second sunset review of the Order, pursuant to section 751(c) of the Tariff Act of 1930, as amended (the Act).³ Commerce received timely intent to participate in this review from Agri-Fab, Inc. (Agri-Fab), a domestic interested party, within the deadline specified in 19 CFR 351.218(d)(1)(i).⁴ On January 31, 2020, Commerce received a complete and adequate substantive response from Agri-Fab within the 30-day deadline specified in 19 CFR 351.218(d)(3)(i).⁵ Commerce received no substantive responses from respondent interested parties. Pursuant to section 751(c)(3)(B) of the Act, Commerce conducted an expedited (120-day) sunset review of the Order.⁶ On May 10, 2019, the ITC published its notice to conduct an expedited five-year review of the Order.⁷

¹ See Antidumping Duty Order: Certain Tow Behind Lawn Groomers and Certain Parts Thereof from the People's Republic of China, 74 FR 38395 (August 3, 2009) (Order).

² See Certain Tow-Behind Lawn Groomers and Parts Thereof from China Institution of a Five-Year Review, 85 FR 117 (January 2, 2020).

³ See Initiation of Five-Year (Sunset) Reviews, 85 FR 67 (January 2, 2020).

⁴ See Agri-Fab's Letter, “Second Five-Year (`Sunset') Review of Antidumping Duty Order on Certain Tow-Behind Lawn Groomers and Certain Parts Thereof from The People's Republic of China; Notice of Intent to Participate,” dated January 16, 2020.

⁵ See Agri-Fab's Letter, “Second Five-Year (`Sunset') Review of Antidumping Duty Order on Certain Tow-Behind Lawn Groomers and Certain Parts Thereof from The People's Republic of China; Agri-Fab's Response to Notice of Initiation,” dated January 31, 2020.

⁶ See Tow-Behind Lawn Groomers and Certain Parts Thereof from the People's Republic of China: Final Results of the Expedited Second Sunset Review of the Antidumping Duty Order, 85 FR 26928 (May 6, 2020), and accompanying Issues and Decision Memorandum (Issues and Decision Memorandum).

⁷ See Tow-Behind Lawn Groomers from China; Scheduling of an Expedited Five-Year Review, 85 FR 34464 (June 4, 2020).

As a result of its review, Commerce determined, pursuant to section 751(c)(1) of the Act, that revocation of the Order on TBLGs from China would likely lead to continuation or recurrence of dumping. Commerce therefore notified the ITC of the magnitude of the margin of dumping rates likely to prevail should this Order be revoked.⁸

⁸ See Issues and Decision Memorandum.

On July 15, 2020, the ITC published its determination that revocation of the Order would likely lead to a continuation or recurrence of material injury to an industry in the United States within a reasonably foreseeable time, pursuant to section 751(c) of the Act.⁹

⁹ See Certain Tow-Behind Lawn Groomers and Parts Thereof From China, 85 FR 42919 (July 15, 2020); see also Tow-Behind Lawn Groomers from China, Inv. 731-TA-1153 (Review), USITC Publication 5089 (June 2020).

Scope of the Order

The merchandise covered by the order is certain non-motorized tow-behind lawn groomers, manufactured from any material, and certain parts thereof, from China.¹⁰ The lawn groomers that are the subject of this order are currently classifiable in the Harmonized Tariff schedule of the United States (“HTSUS”) statistical reporting numbers 8432.41.0000, 8432.42.0000, 8432.80.0000, 8432.80.0010, 8432.90.0060, 8432.90.0081, 8479.89.9496, 8479.90.9496, and 9603.50.0000. These HTSUS provisions are given for reference and customs purposes only, and the description of merchandise is dispositive for determining the scope of the product included in this order.

¹⁰ The full scope of the Order is included in the Issues and Decision Memorandum.

Continuation of the Order

As a result of the determinations by Commerce and the ITC that revocation of the Order would likely lead to a continuation or recurrence of dumping and material injury to an industry in the United States, pursuant to section 751(d)(2) of the Act and 19 CFR 351.218(a), Commerce hereby orders the continuation of this Order on TBLGs from China. U.S. Customs and Border Protection will continue to collect AD cash deposits at the rates in effect at the time of entry for all imports of subject merchandise.

The effective date of the continuation of this Order will be the date of publication in the Federal Register of this notice of continuation. Pursuant to section 751(c)(2) of the Act and 19 CFR 351.218(c)(2), Commerce intends to initiate the next five-year review of this Order not later than 30 days prior to the fifth anniversary of the effective date of continuation.

Notification to Interested Parties

This five-year sunset review and this notice are in accordance with section 751(c) of the Act and published pursuant to section 777(i)(1) of the Act and 19 CFR 351.218(f)(4).

Dated: July 24, 2020.
Jeffrey I. Kessler,
Assistant Secretary for Enforcement and Compliance.

[FR Doc. 2020-16692 Filed 7-31-20; 8:45 am]

BILLING CODE 3510-DS-P